DEPARTMENT OF HEALTH AND HUMAN SERVICES

Health Resources and Services Administration

Meeting of the CDC/HRSA Advisory Committee on HIV, Viral Hepatitis and STD Prevention and Treatment

AGENCY: Health Resources and Services Administration (HRSA), Department of Health and Human Services (HHS).

ACTION: Notice.

SUMMARY: The Centers for Disease Control and Prevention (CDC)/HRSA Advisory Committee on HIV, Viral Hepatitis and STD Prevention and Treatment (CHACHSPT) has scheduled a public meeting. Information about the CHACHSPT can be found here: https://www.cdc.gov/maso/facm/facmchachspt.html. An agenda may be requested by emailing CHACAdvisoryComm@hrsa.gov.

DATES: November 7, 2018, 8:30 a.m.-5:00 p.m. ET and November 8, 2018, 8:30 a.m.-3:30 p.m. ET.

ADDRESSES: This meeting will be held in-person and by webinar and teleconference. The address for the meeting is DoubleTree by Hilton, Bethesda, 8120 Wisconsin Avenue, Bethesda, Maryland 20814.

• Adobe Connect URL link: https://hrsa.connectsolutions.com/chac_meeting/.

• Conference call-in number: 888-324-9617, Passcode 9245865.

FOR FURTHER INFORMATION CONTACT: Theresa Jumento, Chief, Policy Development Branch, HRSA, HIV/AIDS Bureau (HAB), Division of Policy and Data, 5600 Fishers Lane, Room 9N156, or by email at CHACAdvisoryComm@hrsa.gov.

SUPPLEMENTARY INFORMATION: The CHACHSPT was established under Section 222 of the Public Health Service (PHS) Act, [42 U.S.C. Section 217a], as amended.

The purpose of the CHACHSPT is to advise the Secretary of HHS, the Director of the CDC, and the Administrator of HRSA on the objectives, strategies, policies, and priorities for HIV, viral hepatitis, and other STD prevention and treatment efforts. This includes, but is not limited to, surveillance of HIV infection, viral hepatitis, and other STDs; responses to related emerging health needs; and epidemiologic, behavioral, health services, and laboratory research on HIV/AIDS, viral hepatitis, and other STDs. The CHACHSPT also provides advice regarding policy issues related to HIV/viral hepatitis/STD professional education, patient healthcare delivery, research and training, and prevention services.

During the November 7-8, 2018, meeting, the CHACHSPT will discuss the following topics:

• CHACHSPT workgroup reports and findings;

• updates from CDC, HRSA, and HRSA HAB;

• strategies for serving women, infants, children, and youth;

• agencies' responses to the opioid crisis; and

• telemedicine initiatives.

Agenda items are subject to change as priorities dictate. Refer to the CHACHSPT website for any updated information concerning the meeting.

Members of the public will have the opportunity to provide comments. Public participants may submit written statements in advance of the scheduled meeting. Oral comments will be honored in the order they are requested and may be limited as time allows. Requests to submit a written statement or make oral comments to CHACHSPT should be sent by email to CHACAdvisoryComm@hrsa.gov or by mail to Theresa Jumento at the address above at least 3 business days prior to the meeting.

Individuals who plan to attend and need special assistance or another reasonable accommodation should notify Theresa Jumento at the address listed above at least 10 business days prior to the meeting.

Amy P. McNulty,
Acting Director, Division of the Executive Secretariat.

[FR Doc. 2018-20269 Filed 9-17-18; 8:45 am]

BILLING CODE 4165-15-P